DEPARTMENT OF THE TREASURY

Internal Revenue Service

26 CFR Part 1

[REG-103842-07]

RIN 1545-BG33

Qualified Films Under Section 199; Correction

AGENCY: Internal Revenue Service (IRS), Treasury.

ACTION: Correction to notice of proposed rulemaking.

SUMMARY: This document contains corrections to a notice of proposed rulemaking that was published in the Federal Register on Thursday, June 7, 2007 (72 FR 31478). These regulations involve the deduction for income attributable to domestic production activities under section 199 and affect taxpayers who produce qualified films under section 199(c)(4)(A)(i)(II) and (c)(6) and taxpayers who are members of an expanded affiliated group under section 199(d)(4).

FOR FURTHER INFORMATION CONTACT: Concerning § 1.199-3(k) of the proposed regulations, David McDonnell at (202) 622-3040; Concerning § 1.199-7 of the proposed regulations, Ken Cohen (202) 622-7790 (not toll-free numbers).

SUPPLEMENTARY INFORMATION:

Background

The notice of proposed rulemaking (REG-103842-07) that is the subject of the correction is under section 199 of the Internal Revenue Code.

Need for Correction

As published, the notice of proposed rulemaking (REG-103842-07) contains errors that may prove to be misleading and are in need of clarification.

Correction of Publication

Accordingly, the publication of the notice of proposed rulemaking (REG-103842-07), that is the subject of FR Doc. E7-10821, is corrected as follows:

1. On page 31480, column 2, in the preamble, under the paragraph heading “Expanded Affiliated Groups”, second paragraph of the column, lines 25 through 28, the language “assume that X and Y each have $60 of taxable income and QPAI in 2007, Z has $170 of taxable income and QPAI in 2008, and that X, Y, and Z each have” is corrected to read “assume that X and Y each has $60 of taxable income and QPAI in 2007, Z has $170 of taxable income and QPAI in 2008, and that X, Y, and Z each has”.

§ 1.199-3 [Corrected]

2. On page 31482, column 1, § 1.199-3(k)(7)(i), line 2 from the bottom of the paragraph, the language “Paragraph (g)(4)(ii)(A) of this section” is corrected to read “Paragraph (g)(3)(ii)(A) of this section”.

§ 1.199-7 [Corrected]

3. On page 31482, column 3, § 1.199-7(e) Example 10. paragraph (i), line 5 of the paragraph, the language “B each use the section 861 method for” is corrected to read “B each uses the section 861 method for”.

4. On page 31482, column 3, § 1.199-7(e) Example 10. paragraph (iii), line 8 of the paragraph, the language “B becomes a non-member of the consolidated” is corrected to read “B becomes a nonmember of the consolidated”.

5. On page 31483, column 1, § 1.199-7(g)(3) Example. paragraph (i), lines 9 through 11 of the paragraph, the language “year, neither X, Y, nor Z join in the filing of a consolidated Federal income tax return. Assume that X, Y, and Z each have W-2” is corrected to read “year, neither X, Y, nor Z joins in the filing of a consolidated Federal income tax return. Assume that X, Y, and Z each has W-2”.

6. On page 31483, column 1, § 1.199-7(g)(3) Example. paragraph (ii), line 5 from the bottom of the column, the language “allocated $96 of the deduction. For the” is corrected to read “allocated $96 of the EAG's section 199 deduction. For the”.

LaNita Van Dyke,
Chief, Publications and Regulations Branch, Legal Processing Division, Associate Chief Counsel (Procedure and Administration).

[FR Doc. E7-14080 Filed 7-19-07; 8:45 am]

BILLING CODE 4830-01-P